Title 3—

The President

Proclamation 8554 of September 1, 2010

National Childhood Obesity Awareness Month, 2010

By the President of the United States of America

A Proclamation

One of the greatest responsibilities we have as a Nation is to safeguard the health and well-being of our children. We now face a national childhood obesity crisis, with nearly one in every three of America’s children being overweight or obese. There are concrete steps we can take right away as concerned parents, caregivers, educators, loved ones, and a Nation to ensure that our children are able to live full and active lives. During National Childhood Obesity Awareness Month, I urge all Americans to take action to meet our national goal of solving the problem of childhood obesity within a generation.

Childhood obesity has been a growing problem for decades. While it has afflicted children across our country, certain Americans have been disproportionately affected. Particular racial and ethnic groups are more severely impacted, as are certain regions of the country. In addition, obesity can be influenced by a number of environmental and behavioral factors, including unhealthy eating patterns and too little physical activity at home and at school.

We must do more to halt and reverse this epidemic, as obesity can lead to severe and chronic health problems during childhood, adolescence and adulthood, including heart disease, diabetes, cancer, and asthma. Not only does excess weight adversely affect our children’s well-being, but its associated health risks also impose great costs on families, our health care system, and our economy. Each year, nearly $150 billion are spent to treat obesity-related medical conditions. This is not the future to which we want to consign our children, and it is a burden our health care system cannot bear.

Earlier this year, the First Lady announced “Let’s Move!”—an initiative to combat childhood obesity at every stage of a child’s life. As President, I created a Task Force on Childhood Obesity to marshal the combined resources of the Federal Government to develop interagency solutions and make recommendations on how to respond to this crisis. The Task Force produced a report containing a comprehensive set of recommendations that will put our country on track for solving this pressing health issue and preventing it from threatening future generations.

The report outlines broad strategies to address childhood obesity, including providing healthier food in schools, ensuring access to healthy affordable food, increasing opportunities for physical activity, empowering parents and caregivers with better information about making healthy choices, and giving children a healthy start in life. I invite all Americans to visit LetsMove.gov to learn more about these recommendations and find additional information and resources on how to help children eat healthy and stay active.

The new landmark health care law, the Affordable Care Act (ACA), includes a number of important tools for fighting and reversing the rise of childhood obesity. All new health insurance plans will be required to cover both screenings for childhood obesity and counseling on nutrition and sustained weight loss, without charging any out of pocket costs. The ACA also requires large restaurant and vending machine operators to provide visible nutritional information about the products they sell, enabling all Americans to make more informed choices about the foods they eat. As part of my Administration’s comprehensive approach to combating this epidemic, the ACA includes millions in new funds to implement prevention activities nationwide that support recommendations of the Task Force on Childhood Obesity.

Our history shows that when we are united in our convictions, we can safeguard the health and safety of America’s children for generations to come. When waves of American children were stricken with polio and disabled for life, we developed a nationwide immunization program that eradicated this crippling disease from our shores within a matter of decades. When we discovered that children were going to school hungry because their families could not afford nutritious meals, we created the National School Lunch Program. Today, this program feeds more than 30 million American children, often at little or no charge. When we work together, we can overcome any obstacle and protect our Nation’s most precious resource—our children. As we take steps to turn around the epidemic of childhood obesity, I am confident that we will solve this problem together, and that we will solve it in a generation.

NOW, THEREFORE, I, BARACK OBAMA, President of the United States of America, by virtue of the authority vested in me by the Constitution and the laws of the United States, do hereby proclaim September 2010 as National Childhood Obesity Awareness Month. I encourage all Americans to take action by learning about and engaging in activities that promote healthy eating and greater physical activity by all of our Nation’s children.

IN WITNESS WHEREOF, I have hereunto set my hand this first day of September, in the year of our Lord two thousand ten, and of the Independence of the United States of America the two hundred and thirty-fifth.

[FR Doc. 2010-22590

Filed 9-7-10; 11:15 am]

Billing code 3195-W0-P